ENVIRONMENTAL PROTECTION AGENCY

40 CFR Part 300

[EPA-HQ-SFUND-2005-0011; FRL-8471-4]

National Oil and Hazardous Substances Pollution Contingency Plan; National Priorities List

AGENCY: Environmental Protection Agency.

ACTION: Notice of intent to delete the Tabernacle Drum Dump Superfund Site from the National Priorities List.

SUMMARY: The Environmental Protection Agency (EPA) Region 2 is issuing this notice of intent to delete the Tabernacle Drum Dump Superfund Site (Site), located in Tabernacle Township, Burlington County, New Jersey from the National Priorities List (NPL) and requests public comment on this action. The NPL is Appendix B of the National Oil and Hazardous Substances Pollution Contingency Plan (NCP), 40 CFR part 300, which the EPA promulgated pursuant to section 105 of the Comprehensive Environmental Response, Compensation, and Liability Act (CERCLA), as amended. The EPA and the State of New Jersey, through the New Jersey Department of Environmental Protection, have determined that responsible parties have implemented all appropriate response actions required. No further operation and maintenance activities or five-year reviews are required at this site.

DATES: Comments concerning this site may be submitted on or before October 24, 2007.

ADDRESSES: Submit your comments, identified by Docket ID no. EPA-HQ-SFUND-2005-0011, by one of the following methods:

• http://www.regulations.gov. Follow on-line instructions for submitting comments.

• E-mail: tomchuk.doug@epa.gov.

• Fax: (212) 637-4429.

• Mail: Douglas Tomchuk, Remedial Project Manager, U.S. Environmental Protection Agency, Region 2, 290 Broadway, 19th Floor, New York, NY 10007-1866.

• Hand delivery: Douglas Tomchuk, U.S. Environmental Protection Agency, Region 2, 290 Broadway, 19th Floor, New York, NY 10007-1866.

Such deliveries are only accepted during the Docket's normal hours of operation, and special arrangements should be made for deliveries of boxed information.

Instructions: Direct your comments to Docket ID no. EPA-HQ-SFUND-2005-0011. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going to http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

EPA Region 2 Superfund Records Center, 290 Broadway, Room 1828, New York, New York 10007-1866, (212) 637-4308, Hours: 9 a.m. to 5 p.m., Monday through Friday, excluding holidays, by appointment only.

Information on the Site is also available for viewing at the Site's information repository located at: Tabernacle Municipal Building, 163 Carranza Road, Tabernacle, New Jersey 08088.

FOR FURTHER INFORMATION CONTACT: Douglas Tomchuk, Remedial Project Manager, U.S. Environmental Protection Agency, Region 2, 290 Broadway, 19th Floor, New York, NY 10007-1866, Telephone: (212) 637-3956, Fax: (212) 637-4429, E-mail: tomchuk.doug@epa.gov.

SUPPLEMENTARY INFORMATION:

Table of Contents

I. Introduction

II. NPL Deletion Criteria

III. Deletion Procedures

IV. Basis for Intended Site Deletions

I. Introduction

The Environmental Protection Agency (EPA) Region II announces its intent to delete the Tabernacle Drum Dump, located on Carranza Road in Tabernacle Township, Burlington County, New Jersey, from the National Priorities List (NPL) and requests public comment on this action. The NPL constitutes Appendix B of the NCP, 40 CFR part 300, which EPA promulgated pursuant to section 105 of CERCLA, as amended. The EPA identifies sites that appear to present a significant risk to public health, welfare, or the environment and maintains the NPL as the list of those sites. Sites on the NPL may be the subject of remedial actions financed by the Hazardous Substances Superfund Response Trust Fund (Fund). Pursuant to § 300.425(e)(3) of the NCP, any site deleted from the NPL remains eligible for Fund-financed remedial actions if conditions at the site warrant such action.

The EPA will accept comments on the proposal to delete this site for thirty (30) days after publication of this notice in the Federal Register.

Section II of this notice explains the criteria for deleting sites from the NPL. Section III discusses procedures that EPA is using for this action. Section IV discusses how the site meets the deletion criteria.

II. NPL Deletion Criteria

The NCP establishes the criteria the Agency uses to delete sites from the NPL. In accordance with 40 CFR 300.425(e)(l)(i)-(iii), sites may be deleted from the NPL where no further response is appropriate. In making this determination, EPA shall consider, in consultation with the State, whether any of the following criteria have been met:

(i) Responsible parties or other persons have implemented all appropriate response actions required; or

(ii) All appropriate Fund-financed responses under CERCLA have been implemented and no further cleanup by responsible parties is appropriate; or

(iii) The remedial investigation has shown that the release poses no significant threat to public health or the environment and, therefore, taking of remedial measures is not appropriate.

Even if a site is deleted from the NPL, where hazardous substances, pollutants, or contaminants remain at the site above levels that allow for unlimited use and unrestricted exposure, EPA will conduct site remedy reviews every five years to ensure that the implemented remedy protects public health and the environment. If new information becomes available which indicates a need for further action, EPA may initiate remedial actions. Whenever there is a significant release from a site deleted from the NPL, the site may be restored to the NPL without the application of the Hazardous Ranking System.

III. Deletion Procedures

The following procedures were used for the intended deletion of this site:

(1) EPA selected a remedy for this site in a June 30, 1988 Record of Decision (ROD).

(2) The Potentially Responsible Parties (PRPs) have completed a comprehensive cleanup at the site. The work included the removal and off-site disposal of drums, other containers, contaminated liquids and contaminated soil. Contaminated ground water was extracted, treated and then re-injected into the ground. The ground water cleanup was verified by a monitoring program that lasted five years. In addition, the property where the ground water treatment system was located has been restored in accordance with an approved Site Restoration Plan. No further remedial action is necessary at the Tabernacle Drum Dump site to ensure protection of human health and the environment.

(3) All appropriate responses under CERCLA have been documented in the Final Close Out Report dated June 6, 2007.

(4) The State of New Jersey, through the Department of Environmental Protection, has concurred with the proposed deletion decision;

(5) A notice has been published in the local newspaper and has been distributed to appropriate federal, state and local officials and other interested parties announcing the commencement of a 30 day public comment period for EPA's Notice of Intent to Delete; and

(6) All relevant documents have been made available for public review in the local Site information repositories.

Deletion of the Site from the NPL does not itself create, alter, or revoke any individual's rights or obligations. The NPL is designed primarily for informational purposes and to assist Agency management. As mentioned in section II of this Notice, § 300.425(e)(3) of the NCP states that deletion of a site from the NPL does not preclude eligibility for future response actions.

For deletion of this Site, EPA's Region 2 office will accept and evaluate public comments on EPA's Notice of Intent to Delete before making a final decision to delete. If necessary, the Agency will prepare a Responsiveness Summary, which will address any significant public comments received during the public comment period.

The deletion occurs when the EPA Regional Administrator places a final notice in the Federal Register. Generally, the NPL will reflect any deletions in the final update following the Notice. Public notices and copies of the Responsiveness Summary will be made available to local residents by the Region 2 Office.

IV. Basis for Intended Site Deletion

The following summary provides the Agency's rationale for the proposal to delete this Site from the NPL and the Agency's finding that the criteria in 40 CFR 300.425(e) are satisfied:

(A) Site History

The Tabernacle Drum Dump is located in Tabernacle Township, Burlington County, New Jersey. The Site is a wooded one-acre parcel of undeveloped land, bordered to the northwest by farmland and to the south and east by residential properties. The Site is located in the northern region of the New Jersey Pinelands.

Between 1977 and 1984 Atlantic Disposal Services, Inc., (ADS) disposed of approximately 200 containers on the property. The containers included 55-gallon drums, 5-gallon paint cans and 20-gallon containers, which held solvents, paint sludges and heavy metals. Deterioration and leakage of some of the containers resulted in visible contamination of the soils, and ultimately, contamination of ground water underlying and downgradient of the Site.

In September 1983, the Tabernacle Drum Dump site was proposed to the NPL, and the site was approved for inclusion on the NPL in September 1984.

(B) Immediate Actions

In February 1984, EPA issued an administrative order to ADS to perform a surface cleanup of the site, along with certain investigations of ground water contamination. ADS completed the surface cleanup of the site in July 1984, which consisted of removing the containers found at the site, 40 cubic yards of material from the drums, eight truck loads of excavated contaminated soil and approximately 3,000 gallons of liquid material. However, ADS did not implement the investigations of the subsurface soils or ground water.

(C) Remedial Investigation/Feasibility Study

EPA conducted a Remedial Investigation/Feasibility Study (RI/FS) for the site, beginning with preliminary sampling in July 1985. The Remedial Investigation report found chromium, cyanide and lead in the surface soils above background levels, but below New Jersey soil cleanup levels. In the groundwater, cadmium, chromium, lead, 1,1,1-trichloroethane, 1,1-dichloroethane were found exceeding background levels and Applicable or Revelant and Appropriate Requirements (ARARs). The Remedial Investigation was completed in December 1987.

(D) Selected Remedy

Based on the RI/FS, EPA selected a remedy for the Site in a Record of Decision (ROD) which was signed on June 30, 1988, which included the following major elements:

• Installation of additional ground-water monitoring wells to further delineate the extent of the contaminant plume;

• Implementation of a ground water monitoring program for downgradient residential wells to delineate the contaminant plume;

• Additional soil sampling at the former drum dumping and storage area to confirm previous data which indicated only trace levels of contaminants;

• Extraction of the contaminated ground water through pumping followed by on-site treatment and reinjection of the treated effluent into the ground, until federal and state cleanup standards have been attained to the maximum extent practicable; and

• Implementation of a ground water monitoring program for a period of five years after site cleanup goals have been achieved.

(E) Remedial Actions

The cleanup of the Site was completed through various remedial actions including the removal and off-site disposal of drums, containers and contaminated surface soils, and the extraction of contaminated ground water with treatment and re-injection. The sampling in the former drum dump and storage area, subsequent to the removal action, found only trace levels of contaminants remaining in surface and subsurface soils at the Site (below NJDEP Cleanup Standards for contaminated sites (N.J.A.C. 7:26D)), and therefore no further action was warranted for the soil. The pump and treat system was constructed and subsequently ran from August 30, 1993 to June 21, 1997 at a rate of approximately 7,000,000 gallons per month (160 gallons per minute). The cleanup levels specified in the ROD were 26 parts per billion (ppb) for 1,1,1-trichlorethane and 2 ppb for 1,1-dichloroethene. A post-construction monitoring program was conducted between July 1997 and July 2001, and found no detections of 1,1,1-trichloroethane in the designated monitoring wells above the detection limit of 1 ppb after October 1999, and no detections above the detection limit of 1 ppb of 1,1 dichloroethene during the post-construction monitoring period.

(F) Operation and Maintenance

There are no operations, maintenance or monitoring activities remaining to be performed. All remedial activities, including monitoring, are complete and the site poses no unacceptable risk to human health or the environment. The property utilized for ground water treatment has been restored. All structures and underground piping have been removed, all wells have been properly sealed and vegetation has been re-established. Monitoring of the new plantings and seeding will occur for three growing seasons in accordance with an approved Site Restoration Plan.

(G) Five Year Review

A Five-year review of the selected remedy for the Site was signed on September 10, 1998. It found that there are no hazardous substances, pollutants, or contaminants remaining at this site above levels that would allow for unlimited use and unrestricted exposure. The remedy was found to protect public health and the environment and was likely to remain so. No further five-year reviews required and no other engineered, access or institutional controls are needed.

(H) Community Involvement

Public participation activities for the Tabernacle Drum Dump site have been satisfied as required in CERCLA section 113(k), 42 U.S.C. 9613(k), and section 117, 42 U.S.C. 9617. The RI/FS, the ROD, as well as other documents and information that EPA relied on or considered in recommending that no further action is necessary at the Tabernacle Drum Dump Site, and that the site should be deleted from the NPL, are available for the public to review at the information repositories.

(I) Site Meets Deletion Criteria

One of the three criteria for deletion specifies that EPA may delete a site from the NPL if EPA, in consultation with the State, has determined that responsible parties or other persons have implemented all appropriate response actions required; 40 CFR 300.425(e)(1)(i).

EPA, with the concurrence of the State of New Jersey, through the New Jersey Department of Environmental Protection, believes that this criterion for deletion has been met. Consequently, EPA is proposing deletion of this site from the NPL. Documents supporting this action are available at the information repositories in the deletion docket.

In a letter dated August 30, 2006, the New Jersey Department of Environmental Protection concurred with EPA that all appropriate CERCLA response actions have been completed at the Tabernacle Drum Dump site and protection of human health and the environment has been achieved.

Dated: August 17, 2007.
Alan Steinberg,
Regional Administrator, Region 2.

[FR Doc. E7-18579 Filed 9-21-07; 8:45 am]

BILLING CODE 6560-50-P